SMALL BUSINESS ADMINISTRATION

[Disaster Declaration # 10322 and # 10323]

Texas Disaster Number TX-00097

AGENCY: Small Business Administration (SBA).

ACTION: Amendment 4.

SUMMARY: This is an amendment of the Presidential declaration of a major disaster for the State of Texas (FEMA-1624-DR), dated 01/11/2006.

Incident: Extreme Wildfire Threat.

Incident Period: 12/01/2005 and continuing.

DATES: Effective Date: 04/12/2006.

Physical Loan Application Deadline Date: 04/30/2006.

EIDL Loan Application Deadline Date: 10/11/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Texas, dated 01/11/2006, is hereby amended to extend the deadline for filing applications for physical damages as a result of this disaster to 04/30/2006.

All other information in the original declaration remains unchanged.

(Catalog of Federal Domestic Assistance Numbers 59002 and 59008.)

Herbert L. Mitchell,
Associate Administrator for Disaster Assistance.

[FR Doc. E6-6194 Filed 4-24-06; 8:45 am]

BILLING CODE 8025-01-P